DEPARTMENT OF AGRICULTURE

National Institute of Food and Agriculture

Solicitation of Input From Stakeholders Regarding the Youth Farm Safety Education and Certification Competitive Grants Program

AGENCY: National Institute of Food and Agriculture, USDA.

ACTION: Notice of public meeting and request for stakeholder input.

SUMMARY: The Youth Farm Safety Education and Certification (YFSEC) program is authorized under Extension Activities, Smith-Lever 3(d) Programs. By this notice, NIFA is designated to act on behalf of the Secretary of Agriculture in soliciting public comment from interested persons regarding program and funding priorities for the Youth Farm Safety Education and Certification Program.

DATES: One listening session will be held on December 12, 2012 to collect stakeholder input. All comments not otherwise presented or submitted for the record at the meeting must be submitted by close of business December 26, 2012, to assure consideration in the development of the proposed FY 2013 program guidelines.

ADDRESSES: The December 12, 2012 meeting will use a webinar format and will be accessible by conference call (audio) and Internet (visual only). Connection details for the meeting will be posted on the National Institute of Food and Agriculture Web site (www.nifa.usda.gov) or by contacting the individual listed under FOR FURTHER INFORMATION (below). You may submit comments, identified by NIFA-2013-0007, by any of the following methods:

Email: FarmSafety@nifa.usda.gov. Include NIFA-2013-0007 in the subject line of the message.

Mail: Paper submissions should be submitted to Farm Safety Comments; Division of Agricultural Systems, Institute of Food Production and Sustainability, National Institute of Food and Agriculture, U.S. Department of Agriculture; STOP 2240, 1400 Independence Avenue SW., Washington, DC 20250-2240.

Hand Delivery/Courier: Farm Safety Comments; Division of Agricultural Systems, Institute of Food Production and Sustainability, National Institute of Food and Agriculture, U.S. Department of Agriculture; Room 3446, Waterfront Centre, 800 9th Street SW., Washington, DC 20024. Instructions: All submissions must include the identifier NIFA-2013-0007.

FOR FURTHER INFORMATION CONTACT: Ms. Camielle Compton, (202) 401-6825 (phone), or FarmSafety@nifa.usda.gov.

SUPPLEMENTARY INFORMATION:

Additional Meeting and Comment Procedures

Persons wishing to present oral comments at the December 12th meeting are requested to pre-register by contacting Camielle Compton, (202) 401-6825 (phone), or by email to FarmSafety@nifa.usda.gov.

Participants may reserve one five-minute comment period. More time may be available, depending on the number of people wishing to make a presentation. Reservations for oral comments will be confirmed on a first-come, first-served basis. All comments not presented or submitted for the record at the meeting must be submitted by close of business on December 26, 2012, to be considered in the development of the FY 2013 Farm Safety program guidelines. All comments and the official transcript of the meeting, when they become available, will be available on the NIFA Web page for six months.

Background and Purpose

The YFSEC program is authorized by the Smith-Lever Act of May 8, 1914, as amended (7 U.S.C. 341 et seq.). Section 7403 of the Food, Conservation, and Energy Act (FCEA) of 2008 (Pub. L. 110-246) amended section 3(d) of the Smith-Lever Act of 1914 [7 U.S.C. 343(d)] to include 1890 Land-Grant Colleges and Universities, including Tuskegee University and West Virginia State University, as institutions eligible for funding. Beginning in FY 2009, the eligibility to compete for funding for both programs was further broadened to include the University of the District of Columbia.

The YFSEC program supports national efforts to deliver timely, pertinent, and appropriate training to youth actively working, with or without compensation, in agricultural production, regardless of whether the agricultural production enterprise is or is not family-owned. NIFA supports training for the existing Agricultural Hazardous Occupation Order by updating and assessing curricula, testing procedures, and certification means. Two complete curricula have been developed through the YFSEC program and are available at www.agsafety4youth.info. The intent of the listening session and written comments is to gather stakeholder input on program focus and priorities for agricultural safety and health education. USDA-NIFA suggests the following questions be addressed in drafting comments on the program:

1. What are the current educational gaps in agricultural safety and health education that could be addressed through this program?

2. What are the critical components of a coordinated approach to Agricultural Safety and Health Education?

3. Is there a need for a one-stop-shop for education and program materials in agricultural safety and health?

4. What educational standards should be considered in development of the curriculum?

5. What can be done to improve educational outreach to vulnerable populations, such as non-english-speaking and immigrant youth, in agricultural jobs?

6. What partners would be beneficial to engage in developing a more comprehensive and effective agricultural health and safety curriculum for youth?

7. What educational approaches, such as use of social media, could be used to get the message out, both more effectively and to a larger number of young workers?

The December 12, 2012 listening session is scheduled to assist NIFA leadership in more fully addressing stakeholder needs and assuring that the Farm Safety programs address the highest priorities authorized under this program.

Implementation Plans

NIFA plans to consider stakeholder input received from this meeting as well as other written comments and stakeholder input in developing the FY 2013 program guidelines, dependent on Congressional appropriation. NIFA anticipates releasing the proposed FY 2013 RFA(s) by March 2013.

Done at Washington, DC, this 16th day of November 2012.
Sonny Ramaswamy,
Director, National Institute of Food and Agriculture.

[FR Doc. 2012-28522 Filed 11-23-12; 8:45 am]

BILLING CODE 3410-22-P